DEPARTMENT OF AGRICULTURE

Forest Service

Tongass Advisory Committee Meeting

AGENCY: Forest Service, USDA.

ACTION: Notice of meeting.

SUMMARY: The Tongass Advisory Committee (Committee) will meet in Juneau, Alaska. The Committee is established consistent with the Federal Advisory Committee Act of 1972 (5 U.S.C. App. 2). Additional information concerning the Committee, including the meeting agenda, can be found by visiting the Committee's Web site at: http://www.fs.usda.gov/goto/R10/Tongass/TAC.

DATES: The meetings will be held on the following dates:

• Wednesday, September 10, 2014—8:30 a.m. to 5:00 p.m. (AKDT)

• Thursday, September 11, 2014—8:30 a.m. to 5:00 p.m. (AKDT)

• Friday, September 12, 2014—8:30 a.m. to 1:00 p.m. (AKDT)

All meetings are subject to cancellation. For status of the meetings prior to attendance, please contact the person listed under FOR FURTHER INFORMATION CONTACT.

ADDRESSES: The meetings will be held at the Travelodge Hotel Conference Room, 9200 Glacier Highway, Juneau, Alaska. Written comments may be submitted as described under SUPPLEMENTARY INFORMATION. All comments, including names and addresses when provided, are placed in the record and available for public inspection and copying. The public may inspect comments received at the Tongass National Forest Office. Please call ahead to facilitate entry into the building.

FOR FURTHER INFORMATION CONTACT: Nicole McMurren, Committee Coordinator, by phone at 907-772-5875, or by email at nmcmurren@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

(1) Provide informational presentations and discussions regarding the substantive issues before the TAC; and

(2) Review the types of elements and components to be included in recommendations.

The meeting is open to the public. The agenda will include time for oral public comment. Those interested in providing comment orally can register at the meeting. Anyone who would like to bring related matters to the attention of the Committee may file written statements with the Committee's staff before or after the meeting. Written comments may be sent to Jason Anderson, Designated Federal Officer, Tongass National Forest, P.O. Box 309, Petersburg, Alaska 99833; by email to jasonanderson@fs.fed.us, or via facsimile to 907-772-5895. Summary/minutes of the meeting will be posted on the Web site listed above within 45 days after the meeting.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: August 15, 2014.
Forrest Cole,
Tongass Forest Supervisor.

[FR Doc. 2014-20292 Filed 8-25-14; 8:45 am]

BILLING CODE 3410-11-P